DEPARTMENT OF LABOR

Bureau of Labor Statistics

Federal Economic Statistics Advisory Committee; Notice of Open Meeting and Agenda

The second meeting of the Federal Economic Statistics Advisory Committee will be held on December 14-15, 2000 in the Postal Square Building, 2 Massachusetts Avenue NE., Washington, DC.

The Federal Economic Statistics Advisory Committee is a technical committee composed of economists, statisticians, and behavioral scientists who are recognized for their attainments and objectivity in their respective fields. Committee members are called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1 and 2 of the Postal Square Building Conference Center. The schedule and agenda for the meeting are as follows:

Thursday, December 14

9:30 a.m.—Opening Session

1. Introduction of new members and statements of their research interests

2. Report of working group on establishment list project

10:00 a.m.—Business Surveys: The response task and quality of collected data

1:15 p.m.—Expert Practitioner: Employee stock options

2:45 p.m.—Related issues in compensation measurement

4:15 p.m.—Priorities for future meetings, Part I

4:45 p.m.—Conclude (approximate time)

Friday, December 15

9:00 a.m.—Service sector measurement

1. Overview

2. Service sector priorities

3. Challenging cases for service sector price and output measurement

Noon—Priorities for future meetings, Part II

12:30 p.m.—Conclude (approximate time)

The meeting is open to the public. It is suggested that persons planning to attend the meeting as observers contact Margaret Johnson, Federal Economic Research Advisory Committee, on Area Code (202) 691-5600. Persons needing special assistance such as sign language interpretation or other special accommodations in order to attend the meeting are asked to contact Ms. Johnson at least two days prior to the meeting date.

Signed at Washington, D.C. the 27th day of November 2000.
Katharine G. Abraham,
Commissioner of Labor Statistics.

[FR Doc. 00-30627 Filed 11-30-00; 8:45 am]

BILLING CODE 4510-24-P